DEPARTMENT OF LABOR

Office of the Secretary

All Items Consumer Price Index for All Urban Consumers; United States City Average

Pursuant to Section 112 of the 1976 amendments to the Federal Election Campaign Act (Pub. L. 94-283, 2 U.S.C. 441a(c)(1)(A)), the Secretary of Labor has certified to the Chairman of the Federal Election Commission and publishes this notice in the Federal Register that the United States City Average All Items Consumer Price Index for All Urban Consumers (1967=100) increased 283.1 percent from its 1974 annual average of 147.7 to its 2004 annual average of 565.8 and that it increased 6.7 percent from its 2001 annual average of 530.4 to its 2004 annual average of 565.8. Using 1974 as a base (1974=100), I certify that the United States City Average All Items Consumer Price Index for All Urban Consumers thus increased 283.1 percent from its 1974 annual average of 100 to its 2004 annual average of 383.1. Using 2001 as a base (2001=100), I certify that the United States City Average All Items Consumer Price Index for All Urban Consumers thus increased 6.7 percent from its 2001 annual average of 530.4 to its 2004 annual average of 565.8.

Signed at Washington, DC, on the 3rd day of March 2005.
Elaine L. Chao,
Secretary of Labor.

[FR Doc. 05-5147 Filed 3-15-05; 8:45 am]

BILLING CODE 4510-24-M